DEPARTMENT OF ENERGY

Federal Energy Regulatory Commission

[Project No. 7321-018]

Erie Boulevard Hydropower, L.P.; Notice of Scoping and Soliciting Scoping Comments

February 1, 2005.

a. Type of Application: Subsequent license.

b. Project No.: 7321-018.

c. Date Filed: November 26, 2004.

d. Applicant: Erie Boulevard Hydropower, L.P.

e. Name of Project: Macomb Project.

f. Location: On the Salmon River in Franklin County, New York. This project does not occupy federal lands.

g. Filed Pursuant to: Federal Power Act, 16 U.S.C. 791 (a)-825(r).

h. Applicant Contact: Mr. Jerry L. Sabattis, Erie Boulevard Hydropower, L.P., 225 Greenfield Parkway, Suite 201, Liverpool, NY 13088, (315) 413-2787.

i. FERC Contact: John Smith, telephone (202) 502-8972, e-mail john.smith@ferc.gov.

j. Deadline for Filing Scoping Comments: March 2, 2005.

All documents (original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's Web site (http://www.ferc.gov) under the “Filing” link.

k. The existing Macomb Project consists of: (1) A 106-foot-long, 32-foot-high concrete gravity overflow-type dam having a spillway crest elevation of 570.7 feet above mean sea level; (2) a 38-foot-long, 25-foot-high intake structure along each bank; (3) a 6-foot-diameter, 60-foot-long, riveted-steel, gated waste tube along each bank; (4) a 14-acre reservoir with a net storage capacity of 14 acre-feet at the spillway crest elevation; (5) a 6.5-foot-diameter, 60-foot-long, riveted-steel, concrete-encased, gated pipeline along the left (south) bank; (6) a powerhouse containing one 1,000-kilowatt horizontal Francis turbine; (7) a 370-foot-long, 34.5-kilovolt transmission line; and (8) appurtenant facilities. The applicant estimates that the total average annual generation would be 5,660 megawatthours.

l. A copy of the application is on file with the Commission and is available for public inspection. This filing may also be viewed on the Web at http://www.ferc.gov using the “eLibrary” link—select “Docket #” and follow the instructions. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via email of new filings and issuances related to this or other pending projects. For assistance, contact FERC Online Support.

m. Scoping Process. Scoping is intended to advise all parties regarding the proposed scope of the environmental analysis and to seek additional information pertinent to this analysis. The Commission staff intends to prepare an environmental assessment (EA) on the project in accordance with the National Environmental Policy Act. The EA will consider both site-specific and cumulative environmental impacts and reasonable alternatives to the proposed action.

At this time, the Commission staff does not propose to conduct any formal public or agency meetings or an on-site visit. Instead we will solicit comments, recommendations, information, and alternatives by conducting paper scoping through issuing this scoping document.

Copies of the scoping document outlining the subject areas to be addressed in the EA were distributed to the parties on the Commission's mailing list. Copies of the scoping document are available for review at the Commission or may be viewed on the Commission's Web site at http://www.ferc.gov, using the “eLibrary” link. Enter the docket number excluding the last three digits in the docket number field to access the document. For assistance, contact FERC Online Support at FERCOnlineSupport@ferc.gov or toll-free at (806) 208-3676, or for TTY, contact (202) 502-8659.

As part of scoping, the staff will: (1) Summarize the environmental issues tentatively identified for analysis in the EA; (2) solicit from comments all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis. Consequently, interested entities are requested to file with the Commission any data and information concerning environmental resources and land uses in the project area and the subject project's impacts to the aforementioned.

n. The revised schedule for processing the Macomb Project license application is:

Major milestone | Target date
Notice of application is ready for environmental analysis | April 2005.
Notice of the availability of the EA | October 2005.
Ready for Commission's decision on the application | November 2005.

Magalie R. Salas,
Secretary.

[FR Doc. E5-505 Filed 2-7-05; 8:45 am]

BILLING CODE 6717-01-P